ENVIRONMENTAL PROTECTION AGENCY

[FRL-7438-4]

Koppers Charleston Superfund Site; Notice of Proposed Settlement

AGENCY: Environmental Protection Agency (EPA).

ACTION: Notice of modified proposed settlement.

SUMMARY: The United States Environmental Protection Agency is proposing to enter into an Administrative Settlement with Beazer East, Inc. for response costs pursuant to section 122(h)(1) of the Comprehensive Environmental Response, Compensation, and Liability Act (CERCLA), 42 USC 9622(h)(1) concerning the Koppers Charleston Superfund Site (Site) located in Charleston, Charleston County, South Carolina. EPA will consider public comments on the modified proposed settlement for thirty (30) days. EPA may withdraw from or modify the proposed settlement should such comments disclose facts or considerations which indicate the proposed settlement is inappropriate, improper or inadequate. Copies of the proposed settlement are available from: Ms. Paula V. Batchelor, U. S. EPA, Region 4, (WMD-CPSB), 61 Forsyth Street, SW, Atlanta, Georgia 30303, (404) 562-8887.

Written comments may be submitted to Ms. Batchelor within 30 calendar days of the date of this publication.

Dated: December 23, 2002.
James T. Miller, Acting Chief,
CERCLA Program Services Branch, Waste Management Division.

[FR Doc. 03-737 Filed 1-13-03; 8:45 am]

BILLING CODE 6560-50-P